DEPARTMENT OF COMMERCE

National Oceanic and Atmospheric Administration

RIN 0648-XV04

Endangered Species; File No. 14759

AGENCY: National Marine Fisheries Service (NMFS), National Oceanic and Atmospheric Administration (NOAA), Commerce.

ACTION: Notice; receipt of application.

SUMMARY: Notice is hereby given that Joseph Hightower, Ph.D., North Carolina Cooperative Fish and Wildlife Research Unit, North Carolina State University, Raleigh, NC 27695, has applied in due form for a permit to take shortnose sturgeon (Acipenser brevirostrum) for purposes of scientific research.

DATES: Written, telefaxed, or e-mail comments must be received on or before April 12, 2010.

ADDRESSES: The application and related documents are available for review by selecting “Records Open for Public Comment” from the Features box on the Applications and Permits for Protected Species (APPS) home page, https://apps.nmfs.noaa.gov/, and then selecting File No. 14759 from the list of available applications. The application and related documents are available for review upon written request or by appointment in the following offices:

• Permits, Conservation and Education Division, Office of Protected Resources, NMFS, 1315 East-West Highway, Room 13705, Silver Spring, MD 20910; phone (301) 713-2289; fax (301) 713-0376; and

• Southeast Region, NMFS, 263 13th Avenue South, St. Petersburg, FL 33701; phone (727) 824-5312; fax (727) 824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 14759.

FOR FURTHER INFORMATION CONTACT: Malcolm Mohead or Kate Swails, (301) 713-2289.

SUPPLEMENTARY INFORMATION: The subject permit is requested under the authority of the Endangered Species Act of 1973, as amended (ESA; 16 U.S.C. 1531 et seq.), and the regulations governing the taking, importing, and exporting of endangered and threatened species (50 CFR 222-226).

The applicant is seeking a five-year permit to assess the presence, abundance, and distribution of shortnose sturgeon within North Carolina rivers (Chowan, Roanoke, Tar-Pamlico, Neuse, and Cape Fear) and estuaries (Albemarle Sound) using non-lethal sampling methods combining hydroacoustic surveys (side-scan, DIDSON) with gill nets. Annually up to 10 shortnose sturgeon from the Chowan, Tar-Pamlico, Neuse, Cape Fear river systems and Albemarle Sound, and up to 20 shortnose sturgeon from the Roanoke River, would be captured, measured, weighed, sampled for genetic tissue analysis, and PIT tagged. Additionally, up to five adults from each river and Albemarle Sound would be captured, anesthetized, and implanted with an internal sonic transmitter. Manual tracking and passive detections of telemetered fish at fixed receiver stations would provide information about movements and habitat use. Recaptures of tagged fish may also be used to produce abundance estimates if appropriate. Information gained about sturgeon presence, abundance and distribution would be used to guide future efforts to restore or protect key habitats.

Dated: March 8, 2010.
Tammy C. Adams,
Acting Chief, Permits, Conservation and Education Division, Office of Protected Resources, National Marine Fisheries Service.

[FR Doc. 2010-5453 Filed 3-11-10; 8:45 am]

BILLING CODE 3510-22-S